DEPARTMENT OF ENERGY

Federal Energy Regulatory Commission

Combined Notice of Filings #2

Take notice that the Commission received the following exempt wholesale generator filings:

Docket Numbers: EG11-94-000.

Applicants: Hatch Solar Energy Center I, LLC.

Description: Notice of Self-Certification of Exempt Wholesale Generator Status of Hatch Solar Energy Center I, LLC.

Filed Date: 06/17/2011.

Accession Number: 20110617-5164.

Comment Date: 5 p.m. Eastern Time on Friday, July 08, 2011.

Take notice that the Commission received the following electric rate filings:

Docket Numbers: ER01-1305-018.

Applicants: Westar Generating, Inc.

Description: Westar Generating, Inc. Informational Filing.

Filed Date: 06/17/2011.

Accession Number: 20110617-5154.

Comment Date: 5 p.m. Eastern Time on Friday, July 08, 2011.

Docket Numbers: ER08-1501-002; ER09-86-002.

Applicants: Southwestern Electric Power Company.

Description: Compliance refund report of Southwestern Electric Power Company.

Filed Date: 06/17/2011.

Accession Number: 20110617-5175.

Comment Date: 5 p.m. Eastern Time on Friday, July 08, 2011.

Docket Numbers: ER10-1786-002.

Applicants: Credit Suisse Energy, LLC.

Description: Notice of Non-Material Change in Status of Credit Suisse Energy LLC.

Filed Date: 06/17/2011.

Accession Number: 20110617-5153.

Comment Date: 5 p.m. Eastern Time on Friday, July 08, 2011.

Docket Numbers: ER10-2131-001.

Applicants: Grand Ridge Energy LLC.

Description: Triennial Report of Grand Ridge Energy LLC.

Filed Date: 06/20/2011.

Accession Number: 20110620-5093.

Comment Date: 5 p.m. Eastern Time on Friday, August 19, 2011.

Docket Numbers: ER10-2133-001.

Applicants: Sheldon Energy LLC.

Description: Triennial Report of Sheldon Energy LLC.

Filed Date: 06/20/2011.

Accession Number: 20110620-5116.

Comment Date: 5 p.m. Eastern Time on Friday, August 19, 2011.

Docket Numbers: ER10-2137-001.

Applicants: Beech Ridge Energy LLC.

Description: Triennial Report of Beech Ridge Energy LLC.

Filed Date: 06/20/2011.

Accession Number: 20110620-5094.

Comment Date: 5 p.m. Eastern Time on Friday, August 19, 2011.

Docket Numbers: ER10-2140-001.

Applicants: Grand Ridge Energy IV LLC.

Description: Triennial Report of Grand Ridge Energy IV LLC.

Filed Date: 06/20/2011.

Accession Number: 20110620-5108.

Comment Date: 5 p.m. Eastern Time on Friday, August 19, 2011.

Docket Numbers: ER10-2141-001.

Applicants: Grand Ridge Energy V LLC.

Description: Triennial Report of Grand Ridge Energy V LLC.

Filed Date: 06/20/2011.

Accession Number: 20110620-5106.

Comment Date: 5 p.m. Eastern Time on Friday, August 19, 2011.

Docket Numbers: ER11-2207-001.

Applicants: Alta Wind IV, LLC.

Description: Alta Wind IV, LLC—Notice of Non-Material Change in Status.

Filed Date: 06/17/2011.

Accession Number: 20110617-5177.

Comment Date: 5 p.m. Eastern Time on Friday, July 08, 2011.

Docket Numbers: ER11-3614-002.

Applicants: Glacial Energy Holdings.

Description: Glacial Energy Holdings submits tariff filing per 35: Substitute Market-based Tariff of Glacial Energy Holdings to be effective 5/23/2011.

Filed Date: 06/20/2011.

Accession Number: 20110620-5000.

Comment Date: 5 p.m. Eastern Time on Monday, July 11, 2011.

Docket Numbers: ER11-3826-000.

Applicants: Black Hills/Colorado Electric Utility Company, LP.

Description: Black Hills/Colorado Electric Utility Company, LP submits tariff filing per 35.13(a)(1): Black Hills/Colorado Electric Utility Company, LP, Updated Rates and Tariff to be effective 8/15/2011.

Filed Date: 06/20/2011.

Accession Number: 20110620-5002.

Comment Date: 5 p.m. Eastern Time on Monday, July 11, 2011.

Docket Numbers: ER11-3827-000.

Applicants: Genon Power Midwest, LP.

Description: GenOn Power Midwest, LP submits notice of cancellation of the Connection and Site Agreement with American Transmission Systems, Inc et al.

Filed Date: 06/17/2011.

Accession Number: 20110620-0201.

Comment Date: 5 p.m. Eastern Time on Friday, July 08, 2011.

Docket Numbers: ER11-3828-000.

Applicants: PJM Interconnection, LLC.

Description: PJM Interconnection, LLC submits tariff filing per 35.13(a)(2)(iii: PJM Queue No. W1-076; Original Service Agreement No. 2945 to be effective 5/20/2011.

Filed Date: 06/20/2011.

Accession Number: 20110620-5022.

Comment Date: 5 p.m. Eastern Time on Monday, July 11, 2011.

Docket Numbers: ER11-3829-000.

Applicants: Wisconsin Power and Light Company.

Description: Wisconsin Power and Light Company submits tariff filing per 35.13(a)(2)(iii: WPL NSP-LBAAOCA to be effective 6/20/2011.

Filed Date: 06/20/2011.

Accession Number: 20110620-5024.

Comment Date: 5 p.m. Eastern Time on Monday, July 11, 2011.

Docket Numbers: ER11-3830-000.

Applicants: Avista Corporation.

Description: Avista Corporation submits tariff filing per 35.13(a)(2)(iii: Revised Appendix 6 to Attachment M to be effective 8/20/2011.

Filed Date: 06/20/2011.

Accession Number: 20110620-5081.

Comment Date: 5 p.m. Eastern Time on Monday, July 11, 2011.

Docket Numbers: ER11-3831-000.

Applicants: PJM Interconnection, LLC.

Description: PJM Interconnection, LLC submits tariff filing per 35.13(a)(2)(iii: Queue Position No. W1-024 ? Original Service Agreement No. 2943 to be effective 5/20/2011.

Filed Date: 06/20/2011.

Accession Number: 20110620-5083.

Comment Date: 5 p.m. Eastern Time on Monday, July 11, 2011.

Docket Numbers: ER11-3832-000.

Applicants: Southern California Edison Company.

Description: Southern California Edison Company submits tariff filing per 35.13(a)(2)(iii: Walnut Creek Energy Generation Tie-Line Facilities Agreement RS. 485 to be effective 6/21/2011.

Filed Date: 06/20/2011.

Accession Number: 20110620-5100.

Comment Date: 5 p.m. Eastern Time on Monday, July 11, 2011.

Docket Numbers: ER11-3833-000.

Applicants: Southwest Power Pool, Inc.

Description: Southwest Power Pool, Inc. submits tariff filing per 35.13(a)(2)(iii: 2220 BP Wind Energy North America, Inc. GIA to be effective 5/23/2011.

Filed Date: 06/20/2011.

Accession Number: 20110620-5107.

Comment Date: 5 p.m. Eastern Time on Monday, July 11, 2011.

Docket Numbers: ER11-3834-000.

Applicants: Southwest Power Pool, Inc.

Description: Southwest Power Pool, Inc. submits tariff filing per 35.13(a)(2)(iii: 2221 Prairie Breeze Wind Energy, LLC GIA to be effective 5/23/2011.

Filed Date: 06/20/2011.

Accession Number: 20110620-5109.

Comment Date: 5 p.m. Eastern Time on Monday, July 11, 2011.

Docket Numbers: ER11-3835-000.

Applicants: Southwestern Electric Power Company.

Description: Southwestern Electric Power Company's Compliance report of expenditures recorded in calendar year 2010, and for its projected 2011 CWIP expenditures.

Filed Date: 06/20/2011.

Accession Number: 20110620-5110.

Comment Date: 5 p.m. Eastern Time on Monday, July 11, 2011.

Docket Numbers: ER11-3836-000.

Applicants: Southern California Edison Company.

Description: Southern California Edison Company submits tariff filing per 35.13(a)(2)(iii: LGIA Navy 1 Project Coso Finance Partners to be effective 6/2/2011.

Filed Date: 06/20/2011.

Accession Number: 20110620-5113.

Comment Date: 5 p.m. Eastern Time on Monday, July 11, 2011.

Take notice that the Commission received the following electric securities filings:

Docket Numbers: ES11-3-001.

Applicants: MDU Resources Group, Inc.

Description: Request for Amendment to Application of MDU Resources Group, Inc.

Filed Date: 06/20/2011.

Accession Number: 20110620-5111.

Comment Date: 5 p.m. Eastern Time on Monday, July 11, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: June 20, 2011.
Nathaniel J. Davis, Sr.,
Deputy Secretary.

[FR Doc. 2011-15813 Filed 6-23-11; 8:45 am]

BILLING CODE 6717-01-P